DEPARTMENT OF COMMERCE

National Oceanic and Atmospheric Administration

50 CFR Part 679

[Docket No. 041126332-5039-02; I.D. 072205B]

Fisheries of the Economic Exclusive Zone Off Alaska; Yellowfin Sole in the Bering Sea and Aleutian Islands

AGENCY: National Marine Fisheries Service (NMFS), National Oceanic and Atmospheric Administration (NOAA), Commerce.

ACTION: Temporary rule; modification of a closure.

SUMMARY: NMFS is opening directed fishing for yellowfin sole in the Bering Sea and Aleutian Islands (BSAI). This action is necessary to allow the yellowfin sole fishery in the BSAI to resume.

DATES: Effective 1200 hrs, Alaska local time (A.l.t.), July 25, 2005, through 2400 hrs, A.l.t., December 31, 2005.

FOR FURTHER INFORMATION CONTACT: Josh Keaton, 907-586-7228.

SUPPLEMENTARY INFORMATION: NMFS manages the groundfish fishery in the BSAI exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

NMFS closed directed fishing for yellowfin sole in the BSAI under § 679.21(d)(7)(i) on May 19, 2005 (70 FR 29458, May 23, 2005).

NMFS has determined that as of June 20, 2005 approximately 7,862 metric tons of yellowfin sole remain in the 2005 yellowfin sole TAC in the BSAI . Therefore, in accordance with §§ 679.25(a)(2)(i)(C) and (a)(2)(iii)(D), and to allow the yellowfin sole fishery to resume, NMFS is terminating the previous closure and is reopening directed fishing for yellowfin sole in the BSAI. The reopening is effective 1200 hrs, Alaska local time (A.l.t.), July 25, 2005, through 2400 hrs, A.l.t., December 31, 2005.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the delay the opening of the fishery, not allow the full utilization of the yellowfin sole TAC in the BSAI, and therefore reduce the public's ability to use and enjoy the fishery resource.

The AA also finds good cause to waive the 30-day delay in the effective date of this action under 5 U.S.C. 553(d)(3). This finding is based upon the reasons provided above for waiver of prior notice and opportunity for public comment.

This action is required by § 679.25 and is exempt from review under Executive Order 12866.

Authority: 16 U.S.C. 1801 et seq.

Dated: July 22, 2005.
Alan D. Risenhoover
Acting Director, Office of Sustainable Fisheries, National Marine Fisheries Service.

[FR Doc. 05-14854 Filed 7-22-05; 3:27 pm]

BILLING CODE 3510-22-S